DEPARTMENT OF AGRICULTURE

Animal and Plant Health Inspection Service

9 CFR Part 53

[Docket No. APHIS-2023-0088]

RIN 0579-AE79

Payment of Indemnity and Compensation for Highly Pathogenic Avian Influenza; Reopening of Comment Period

AGENCY: Animal and Plant Health Inspection Service, USDA.

ACTION: Interim rule; reopening of comment period.

SUMMARY: We are reopening the comment period for our interim rule that would amend the regulations pertaining to conditions for payment of indemnity for highly pathogenic avian influenza. This action will allow interested persons additional time to prepare and submit comments.

DATES: The comment period for the interim rule published on December 31, 2024 (89 FR 106981-106996) is reopened. We will consider all comments that we receive on or before April 14, 2025.

ADDRESSES: You may submit comments by either of the following methods:

• Federal eRulemaking Portal: Go to www.regulations.gov. Enter APHIS-2023-0088 in the Search field. Select the Documents tab, then select the Comment button in the list of documents.

• Postal Mail/Commercial Delivery: Send your comment to Docket No. APHIS-2023-0088, Regulatory Analysis and Development, PPD, APHIS, Station 2C-10.16, 4700 River Road, Unit 25, Riverdale, MD 20737-1238.

Supporting documents and any comments we receive on this docket may be viewed at Regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Leonardo L. Sevilla, DVM, Veterinary Medical Officer, Poultry Health Team, VS Strategy and Policy Aquaculture, Swine, Equine, and Poultry (ASEP), ASEP Health Center, 920 Main Campus Drive, Raleigh, NC 27606; (984) 766-1528; Leonardo.sevilla@usda.gov.

SUPPLEMENTARY INFORMATION: On December 31, 2024, we published in the Federal Register (89 FR 106981-106996, Docket No. APHIS-2023-0088) an interim rule to amend the regulations pertaining to conditions for payment of indemnity for highly pathogenic avian influenza.

Comments on the interim rule were required to be received on or before March 3, 2025. We are reopening the comment period on Docket No. APHIS-2023-0088 for an additional 30 days. This action will allow interested persons additional time to prepare and submit comments. We will also consider all comments received between March 4, 2025, (the day after the close of the original comment period) and the date of this document.

(Authority: 7 U.S.C. 8301-8317; 7CFR 2.22, 2.80, and 371.4.)

Done in Washington, DC, this 10th day of March 2025.
Michael Watson,
Administrator, Animal and Plant Health Inspection Service, USDA.

[FR Doc. 2025-04114 Filed 3-13-25; 8:45 am]

BILLING CODE 3410-34-P